DEPARTMENT OF THE INTERIOR

National Park Service

[NPS-WASO-NRNHL-DTS#-32515; PPWOCRADI0, PCU00RP14.R50000]

National Register of Historic Places; Notification of Pending Nominations and Related Actions

AGENCY: National Park Service, Interior.

ACTION: Notice.

SUMMARY: The National Park Service is soliciting electronic comments on the significance of properties nominated before August 21, 2021, for listing or related actions in the National Register of Historic Places.

DATES: Comments should be submitted electronically by September 14, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before August 21, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

CALIFORNIA

Los Angeles County

Malaga Cove Plaza. Roughly bounded by Palos Verdes Drive West, Vía Tejon, Vía Corta, and Malaga Ln., Palos Verdes Estates, SG100007016

San Diego County

Institute of Geophysics and Planetary Physics, 8800 Biological Grade, La Jolla, SG100007011

IDAHO

Bannock County

Bethel Baptist Church (African American Civil Rights in Idaho MPS) 401 North 5th Ave., Pocatello, MP100007013

Latah County

Mountain Home Grange Hall (The Grange in Idaho MPS), 1044 Mountain Home Rd., Potlatch vicinity, MP100007014

KANSAS

Dickinson County

Union Electric Warehouse, 205 South Cedar St., Abilene, SG100007020

Douglas County

Griffin, Andrew Jackson (A.J.) and Mary Carrol, House (Lawrence, Kansas MPS), 645 Connecticut St., Lawrence, MP100007021

Geary County

First Presbyterian Church of Junction City, 113 West 5th St., Junction City, SG100007028

Johnson County

LeCluyse, William and Julia, House, 5810 Cody St., Shawnee, SG100007023

Mt. Pleasant Four Corners Burying Grounds, Four Corners Rd. (east side) approx., ½ mi. north of 167th St., Gardner vicinity, SG100007024

Neosho County

First Christian Church, 120 West 1st St., Erie, SG100007025

Rice County

Rice County Jail and Sheriff's Residence, 120 East Main St., Lyons, SG100007026

First Christian Church, 115 Courthouse Plz., Manhattan, SG100007029

Riley County

Forrester, F.B., House, 410 North Juliette Ave., Manhattan, SG100007022

Dawson's Conoco Service Station (Roadside Kansas MPS), 1026 Poyntz Ave., Manhattan, MP100007027

MISSISSIPPI

Jackson County

Scranton Historic District, (Pascagoula MPS), Roughly bounded by Krebs Ave., Pascagaula St., Convent Ave., and Frederic St., Pascagoula, MP100007019

Lowndes County

South Columbus Historic District (Boundary Increase/Decrease), Roughly bounded by Main and College Sts., 3rd and 4th Aves. South, 9th' 15th, South 7th and 1st Sts., Tombigbee R., Columbus, BC100007035

NEW YORK

Tompkins County

CG 40300 (motor lifeboat), USCGAUX Flotilla 2-2, 508 Taughannock Blvd., Ithaca, SG100007018

WISCONSIN

Brown County

Daviswood Ranch Homes Historic District, 800-868 East St. Francis Rd., 802-879 West St. Francis Rd., De Pere, SG100007032

Grant County

Coates, Leonard and Caroline, House, 2050 Southwest Rd., Platteville, SG100007031

A request for removal has been made for the following resource:

SOUTH DAKOTA

McPherson County

Hoffman, Amos, House, SD 10, Leola, OT86001476

Additional documentation has been received for the following resources:

MISSISSIPPI

Lowndes County

South Columbus Historic District (Additional Documentation). Roughly bounded by Main and College Sts., 3rd and 4th Aves. South, 9th' 15th, South 7th, and 1st Sts., Tombigbee R., Columbus, AD82003104

SOUTH DAKOTA

Lawrence County

Lead Historic District (Boundary Increase II) (Boundary Decrease) (Additional Documentation). Roughly bounded by the Open Pit, Glendale Dr., West McClellan St. and Homestake Mine complex, Lead, AD100006688

Authority: Section 60.13 of 36 CFR part 60.

Dated: August 24, 2021.
Sherry A. Frear,
Chief, National Register of Historic Places/National Historic Landmarks Program.

[FR Doc. 2021-18651 Filed 8-27-21; 8:45 am]

BILLING CODE 4312-52-P